DEPARTMENT OF DEFENSE

Department of the Air Force

Notice of Availability of a Final Environmental Assessment and Finding of No Significant Impact for the Juniper Butte Range Land Withdrawal Extension, Mountain Home Air Force Base, Idaho

AGENCY: Department of the Air Force, Department of Defense.

ACTION: Notice of availability.

SUMMARY: The US Air Force (Air Force) is issuing this notice of availability of a Final Environmental Assessment (EA) and Finding of No Significant Impact (FONSI) for the Juniper Butte Range Land Withdrawal Extension, Mountain Home Air Force Base (AFB), Idaho.

ADDRESSES: For information on this EA contact Mountain Home AFB 366 Fighter Wing Public Affairs (366 FW/PA) at 366FW.PA.Public.Affairs@us.af.mil; 208-826-6800; or 366 FW/PA, 366 Gunfighter Avenue, Suite 310, Mountain Home AFB 83648. For further information contact Robin Divine at 208-826-6800.

SUPPLEMENTARY INFORMATION: The Final EA and FONSI have been prepared to consider the potential environmental consequences of extending the public lands withdrawal established in Title XXIX of Public Law 105-261 on October 17, 1998, the Juniper Butte Range Withdrawal Act, at the Mountain Home Range Complex associated with Mountain Home AFB, Idaho. Per section 2915(c) of the Juniper Butte Range Withdrawal Act, the Draft EA and FONSI were made available for public review and comment for a 60-day period beginning on 10 April 2019, and a public meeting was held in Mountain Home, Idaho on April 25, 2019. No public comments were received. The agency comment letters received during the 60-day public review period are addressed in the Final EA. Under the Juniper Butte Range Withdrawal Act, approximately 11,816 acres of public land located in Owyhee and Twin Falls Counties, Idaho, were withdrawn from the Department of Interior, Bureau of Land Management to the Air Force for military use. Under the Juniper Butte Range Withdrawal Act, the withdrawal of these public lands will expire in 2023 unless the Air Force meets the requirements for extension in section 2915(c) of the Act. Therefore, the Air Force has analyzed the potential environmental impacts in the Final EA and signed a FONSI proposing to extend the withdrawal of this public land for continued military training for an additional 25 years. In addition, except as provided in section 2908(f) of the Juniper Butte Range Withdrawal Act, withdrawn and acquired mineral resources within the boundaries of the Juniper Butte Range will continue as originally withdrawn from United States mining laws. The Final EA and signed FONSI are available on the internet at https://www.mountainhome.af.mil/Home/Environmental-News/. Printed copies of the Final EA and signed FONSI are also available for review at the following locations:

• Mountain Home Public Library, 790 N 10th E Street, Mountain Home, Idaho 83647

• Mountain Home AFB Library, 480 5th Avenue, Building 2610, Mountain Home AFB, Idaho 83648

• Twin Falls Public Library, 201 4th Avenue East, Twin Falls, Idaho 83301

Adriane Paris,
Acting Air Force Federal Register Liaison Officer.

[FR Doc. 2019-28300 Filed 12-31-19; 8:45 am]

BILLING CODE 5001-10-P